DEPARTMENT OF ENERGY

Federal Energy Regulatory Commission

[Docket No. CP02-68-000]

Enbridge Pipelines (Midla) Inc.; Notice of Application

January 28, 2002.

Take notice that on January 15, 2002, Enbridge Pipelines (Midla) Inc. (Midla), 1100 Louisiana, Suite 3300, Houston, Texas 77002, filed in Docket No. CP02-68-000 a request pursuant to section 7(b) of the Natural Gas Act (NGA), for permission and approval to abandon by transfer to Mid Louisiana Gas Transmission Company (MTrans), its affiliated Louisiana Hinshaw Pipeline, certain transmission and related pipeline facilities located in the parishes of East Feliciana, West Feliciana, West Baton Rouge and East Baton Rouge, Louisiana, all as more fully set forth in the application which is on file with the Commission and open to public inspection. This filing may be viewed on the Web at http://www.ferc.gov using the “RIMS” link, select “Docket #” and follow the instructions (call (202) 208-2222 for assistance).

Midla requests abandonment authorization to transfer to MTrans the portion of its system extending from Milepost 135.08 in East Feliciana Parish, Louisiana to Milepost 171.53 in East Baton Rouge Parish, Louisiana, and related looping and transmission lateral lines in southeast Louisiana. Midla states that the facilities for which it seeks abandonment authority consist of approximately 77.81 miles of pipeline, ranging from six to 22 inches in diameter. Midla also requests that the Commission make a finding that the subject facilities will become nonjurisdictional once transferred to MTrans.

Midla states that the subject facilities are no longer required by the public convenience and necessity, and that the proposed abandonment and transfer to MTrans is in the public interest. Midla further states that the cost of operation and maintenance of the subject facilities can no longer be economically justified as part of Midla's system. Midla states that MTrans' integration of these facilities into its core intrastate business will allow for their efficient use and also provide significant competitive benefits in the area.

Midla states that upon approval of the proposed abandonment, the subject facilities will be transferred to MTrans at net book value, estimated to be $4,389,957, and that MTrans will operate the facilities as an integrated part of its intrastate system. Midla further states that it is not proposing to change its rates and has no current plans to file a rate case. Midla adds that the costs underlying any future rate case however, will be reduced as a result of the proposed abandonment.

Midla states that the proposed abandonment will result in no disruption of firm transportation service for Midla's customers whose primary receipt or delivery points are on the abandoned facilities. In addition, Midla states that the proposed abandonment will not affect Midla's ability to continue to provide natural gas transportation service for current customers whose receipt and delivery points remain on Midla's system after the proposed abandonment Midla states that it will have sufficient capacity on its remaining transmission facilities to render transportation services without detriment or disadvantage to these customers.

Any questions regarding this application should be directed to Claudia A. Schrull, Director of Regulatory Affairs, Enbridge Pipelines (Midla) Inc., 1100 Louisiana, Suite 3300, Houston, Texas 77002 at (713) 821-2045.

There are two ways to become involved in the Commission's review of this abandonment. First, any person wishing to obtain legal status by becoming a party to the proceedings for this abandonment should, on or before February 19, 2002, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this abandonment. The Commission will consider these comments in determining the appropriate action to be taken, but the filing of a comment alone will not serve to make the filer a party to the proceeding. The Commission's rules require that persons filing comments in opposition to the abandonment provide copies of their protests only to the party or parties directly involved in the protest.

Persons who wish to comment only on the environmental review of this abandonment should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenters will not receive copies of all documents filed by other parties or issued by the Commission (except for the mailing of environmental documents issued by the Commission) and will not have the right to seek court review of the Commission's final order.

Comments, protests and interventions may be filed electronically via the Internet in lieu of paper. See, 18 CFR 385.2001(a)(1)(iii) and the instructions on the Commission's web site under the “e-Filing” link

If the Commission decides to set the application for a formal hearing before an Administrative Law Judge, the Commission will issue another notice describing that process. At the end of the Commission's review process, a final Commission order approving or denying abandonment will be issued.

C. B. Spencer,
Acting Secretary.

[FR Doc. 02-2473 Filed 1-31-02; 8:45 am]

BILLING CODE 6717-01-P